DEPARTMENT OF COMMERCE

International Trade Administration

[A-201-817]

Oil Country Tubular Goods from Mexico; Extension of Time Limits for Preliminary and Final Results of Full Five-year (“Sunset”) Review of Antidumping Duty Order

AGENCY: Import Administration, International Trade Administration, Department of Commerce.

EFFECTIVE DATE: September 25, 2006.

FOR FURTHER INFORMATION CONTACT: John Drury or Abdelali Elouaradia, AD/CVD Operations, Office 7, Import Administration, International Trade Administration, U.S. Department of Commerce, 14th Street & Constitution Avenue, N.W., Washington, D.C. 20230; telephone: (202) 482-0195 or (202) 482-1374, respectively.

SUPPLEMENTARY INFORMATION:

Background

On June 1, 2006, the Department of Commerce (“the Department”) published in the Federal Register the notice of initiation of its sunset reviews of the antidumping duty orders on oil country tubular goods (“OCTG”) from Argentina, Italy, Japan, South Korea, and Mexico. See Initiation of Five-year (“Sunset”) Reviews, 71 FR 31153 (June 1, 2006). On June 14, 2006, domestic interested party United States Steel Corporation (“U.S. Steel”) submitted a letter indicating its intent to participate in the sunset review on OCTG from Mexico. On June 15, 2006, the domestic interested parties IPSCO Tubulars Inc., Lone Star Steel Company, Koppel Steel (NS Group), Maverick Tube Corporation, Newport Steel (NS Group), and V&M Star LP, submitted a letter indicating their intent to participate in the sunset reviews. On June 29, 2006, June 30, 2006, and July 3, 2006, domestic and respondent interested parties provided substantive responses as required under section 351.218 (d)(3) of the Department's regulations. Respondent interested parties Hylsa, S.A. de C.V. (“Hylsa”) and Tubos de Acero de Mexico, S.A. (“TAMSA”), included, in their substantive responses, arguments regarding “other factors” under section 752(c)(2) of the Tariff Act of 1930, as amended (“the Act”) and their effect on the Department's determination whether dumping is likely to continue or recur. Domestic interested parties filed rebuttal comments on July 5, 2006, and July 14, 2006.

On July 21, 2006, the Department determined that the participation of the respondent interested parties was adequate, and that it was appropriate to conduct full sunset reviews. See Memorandum to Steven J. Claeys: Adequacy Determination; Sunset Review of the Antidumping Duty Order on Oil Country Tubular Goods from Mexico, dated July 21, 2006, and on file in the Central Records Unit, Room B-099 of the Department of Commerce building.

Extension of Time Limits for Preliminary and Final Results of Reviews

The Act provides for the completion of a full sunset review within 240 days of the publication of the initiation notice. See section 751(c)(5)(A) of the Act. In accordance with section 751(c)(5)(B) of the Act, the Department may extend the period of time for making its determination by not more than 90 days, if it determines that the review is extraordinarily complicated. We determine that this review is extraordinarily complicated, pursuant to sections 751(c)(5)(C) (i) and (ii) of the Act, because there are a large number of issues and the issues to be considered are complex. Therefore, the Department requires additional time to complete its analysis. The Department's preliminary results of the sunset review of the antidumping duty order on OCTG are scheduled for September 19, 2006. However, the Department will extend the deadline in this proceeding for the above-stated reasons. As a result, the Department intends to issue the preliminary results of the full sunset review by December 18, 2006, and the final results of that review by April 27, 2007. These dates are 90 days from the original scheduled dates of the preliminary and final results of the sunset review.

This notice is issued in accordance with sections 751(c)(5)(B) and (C) of the Act.

Dated: September 19, 2006.
Stephen J. Claeys,
Deputy Assistant Secretary for Import Administration.

[FR Doc. 06-8181 Filed 9-22-06; 8:45 am]

BILLING CODE 3510-DS-S